DEPARTMENT OF LABOR

Occupational Safety and Health Administration

[Docket No. ICR 1218-0247 (2005)]

State Plans for the Development and Enforcement of State Standards; Extension of the Office of Management and Budget's (OMB) Approval of Information-Collection (Paperwork) Requirements

AGENCY: Occupational Safety and Health Administration (OSHA), Labor.

ACTION: Request for public comment.

SUMMARY: OSHA solicits public comment concerning its request for an extension of the information collection requirements associated with its regulations and program regarding State Plans for the development and enforcement of state standards (29 CFR 1902, 1952, 1953, 1954, 1955, 1956).

DATES: Comments must be submitted by the following dates:

Hard Copy: Your comments must be submitted (postmarked or received) by November 29, 2005.

Facsimile and electronic transmission: Your comments must be received by November 29, 2005.

ADDRESSES: You may submit written comments, identified by OSHA Docket No. ICR 1218-0247 (2005), by any of the following methods:

Regular mail, express delivery, hand-delivery, and messenger service: Submit your comments and attachments to the OSHA Docket Office, U.S. Department of Labor, Room N-2625, 200 Constitution Avenue, NW., Washington, DC 20210. Telephone: (202) 693-2350. The OSHA Docket Office hours of operation are 8:15 a.m. to 4:45 p.m., ET.

Facsimile: If your comments, including any attachments, are 10 pages or fewer, you may fax them to the OSHA Docket Office at (202) 693-1648.

Electronic: You may submit comments through the Internet at http://dockets.osha.gov/. Follow instructions on the OSHA Web page for submitting comments.

Docket: For access to the docket to read or download comments or background materials, such as the complete Information Collection Request (ICR), containing the Supporting Statement, OMB 83-I Form and attachments, go to OSHA's Web page at http://www.OSHA.gov. Comments, submissions and the ICR are available for inspection and copying at the OSHA Docket Office at the above address. You may also contact Barbara Bryant at the address below to obtain a copy of the ICR. For additional information on submitting comments, please see the “Public Participation” heading in the SUPPLEMENTARY INFORMATION section of this document.

FOR FURTHER INFORMATION CONTACT: Barbara Bryant, Directorate of Cooperative and State Programs, Office of State Programs, Occupational Safety and Health Administration, U.S. Department of Labor, Room N-3700, 200 Constitution Avenue, NW., Washington, DC 20210; telephone: (202) 693-2244; e-mail, bryant.barbara@dol.gov.

SUPPLEMENTARY INFORMATION:

I. Background

The Department of Labor, as part of its continuing effort to reduce paperwork and respondent burden, conducts a pre-clearance consultation program to provide the general public with an opportunity to comment on proposed and/or continuing collections of information in accordance with the Paperwork Reduction Act of 1995 (PRA 95) (44 U.S.C. 3506(c)(2)(A)).

This program ensures that information is in the desired format, has practical utility, reporting burden (time and cost) is minimized, collection instruments are understandable, and OSHA's estimate of the information collection burden is correct. Currently, OSHA is soliciting comments concerning the extension of the information collection requirements contained in the series of regulations establishing requirements for the submission, initial approval, continuing approval, final approval, monitoring and evaluation of OSHA-approved State Plans:

• 29 CFR Part 1902, State Plans for the Development and Enforcement of State Standards;

• 29 CFR Part 1952, Approved State Plans for Enforcement of State Standards;

• 29 CFR Part 1953, Changes to State Plans for the Development and Enforcement of State Standards;

• 29 CFR Part 1954, Procedures for the Evaluation and Monitoring of Approved State Plans;

• 29 CFR Part 1955, Procedures for Withdrawal of Approval of State Plans; and

• 29 CFR Part 1956, State Plans for the Development and Enforcement of State Standards Applicable to State and Local Government Employees in States without Approved Private Employee Plans.

Section 18 of the Occupational Safety and Health Act offers an opportunity to the States to assume responsibility for the development and enforcement of State standards through the mechanism of an OSHA-approved State Plan. Absent an approved plan, States are precluded from enforcing occupational safety and health standards in the private sector with respect to an issue that is addressed by OSHA. Once approved and operational, the State provides most occupational safety and health enforcement and compliance assistance in the State in lieu of Federal OSHA. States also must extend jurisdiction to State and local government employees. In order to obtain and maintain State Plan approval, a State must submit various documents to OSHA describing its program structure and operation, including any modifications thereto as they occur, in accordance with the identified regulations. OSHA funds 50% of the costs required to be incurred by an approved State Plan with the State at least matching and providing additional funding at its discretion.

II. Special Issues for Comment

OSHA has a particular interest in comments on the following issues:

• Whether the proposed collection of information is necessary for the proper performance of OSHA's functions, including whether the information is useful;

• The accuracy of OSHA's estimate of the burden (time and cost) of the information collection requirements, including the validity of the methodology and assumptions used;

• The quality, utility and clarity of the information collected; and

• Ways to minimize the burden on participating States, for example, by using automated or other technological information collection and transmission techniques.

III. Proposed Actions

OSHA is proposing to extend the collection-of-information requirements associated with its State Plan regulations. In doing so, the Agency is proposing to adjust the total burden hours associated with the six regulations affecting the States that currently operate, or propose to operate, OSHA-approved State Plans from 8,522 hours to 10,522 to reflect the on-going development of a possible new State Plan. The Agency will summarize the comments submitted in response to this notice and will include this summary in its request to OMB to extend the approval of the information collection requirements related to its six State Plan regulations.

Agency: U.S. Department of Labor, Occupational Safety and Health Administration.

Title: State Plans for the Development and Enforcement of State Standards.

OMB Number: 1218-0247.

Affected Public: Designated State government agencies which are seeking or have submitted and obtained approval for State Plans for the development and enforcement of occupational safety and health standards.

Number of Respondents: 27.

Frequency of Response: On occasion; quarterly; annually.

Average Time Per Response: Varies from one hour to respond to an information survey to 80 hours to document State annual performance goals.

Estimated Total Burden Hours: 10,522.

Estimated Cost (Operation and Maintenance): $0.

IV. Public Participation-Submission of Comments on This Notice and Internet Access to Comments and Submissions

You may submit comments and supporting materials in response to this document by (1) hard copy, (20 FAX transmission (facsimile) or (3) electronically through the OSHA Webpage. Because of security-related problems, a significant delay may occur in the receipt of comments by regular mail. Please contact the OSHA Docket Office at (202) 693-2350 (TTY (877) 889-5627) for information about security procedures concerning the delivery of materials by express delivery, hand delivery and courier service.

All comments, submissions and background documents are available for inspection and copying at the OSHA Docket Office at the above address. Comments and submissions are also posted on OSHA's Webpage and are available at http://www.OSHA.gov. Contact the OSHA Docket Office for information about material not available through the OSHA Webpage, and for assistance using the Webpage to locate docket submissions.

Electronic copies of this Federal Register notice, as well as other relevant documents, are available on OSHA's Webpage. All submissions become public; therefore, private information, such as a social security number, should not be submitted.

V. Authority and Signature

Jonathan L. Snare, Acting Assistant Secretary of Labor for Occupational Safety and Health, directed the preparation of this notice. The authority for this notice is the Paperwork Reduction Act of 1995 (44 U.S.C. 3506 et seq.) and Secretary of Labor's Order No. 5-2002 (67 FR 65008).

Signed at Washington, DC, on September 27, 2005.
Jonathan L. Snare,
Acting Assistant Secretary of Labor.

[FR Doc. 05-19648 Filed 9-29-05; 8:45 am]

BILLING CODE 4610-26-M